DEPARTMENT OF AGRICULTURE

Submission for OMB Review; Comment Request

May 1, 2002.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and the Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Foreign Agricultural Agency

Title: Request for Vessel Approval.

OMB Control Number: 0551-0008.

Summary of Collection: Title I of the Agricultural Trade Development and Assistance Act of 1954 (Pub. L. 480, 83rd Congress, as amended) provides for U.S. government financing of sales of U.S. agricultural commodities to recipients (foreign countries or private entities). In accordance with the law, an agreement providing for long-term credit financing is first negotiated with the recipients through diplomatic channels. Within the U.S. government, the Foreign Agricultural Service (FAS) of the Department of Agriculture is the agency responsible for administering Public Law 480, Title I (“Title I”) agreements. After an agreement has been signed, the recipient applies to FAS for authorization to purchase each commodity provided in the agreement. A purchase authorization is issued which provides for financing of commodity sales by the Commodity Credit Corporation (CCC). The recipient then purchases the commodity for delivery at U.S. ports and arranges for ocean transportation. The recipient must send the pertinent terms of all proposed ocean freight contracts, regardless of whether any portion of the ocean freight is financed by CCC, to FAS for review and approval before the vessel is “fixed” (i.e. contracted).

Need and Use of the Information: FAS will collect information on the ocean freight contract. The information is needed to ensure: that Title I recipient comply with the requirement that U.S. flag vessels carry 75 percent of the tonnage shipped under this program, that program recipients comply with Public Law 664 (Cargo Preference Act) and the Merchant Marine Act of 1936, as amended. FAS also uses the information to prepare form CCC-105, “Advice of Vessel Approval,” which specifies what part of the ocean freight rate will be financed by the CCC.

Description of Respondents: Business or other for-profit.

Number of Respondents: 5.

Frequency of Responses: Reporting; on occasion.

Total Burden Hours: 9.

Farm Service Agency

Title: Verification of Debts and Assets.

OMB Control Number: 0560-0166.

Summary of Collection: The Consolidated Farm and Rural Development Act (CONACT) Sections 311 (7 U.S.C. 1941), 302 (7 U.S.C. 1922 and 321 (7 U.S.C. 1961), authorize the Farm Service Agency to determine an applicant's eligibility for Operating, Farm Ownership or Emergency loans. Additionally, Section 353 (7 U.S.C. 2001) requires FSA to collect financial data to verify debts and assets of borrowers that requested primary and preservation loan servicing or debt settlement. FSA will collect information using FSA form 440-32, Verification of Debts and Assets.

Need and Use of the Information: FSA will collect information to determine whether an applicant is eligible for a loan or the appropriateness of a servicing or debt settlement action. The data collected is then used to determine feasibility of the loan request. If the data were not collected, FSA would be forced to use outdated financial information, which would result in much higher losses to the Government.

Description of Respondents: Business or other for-profit; individuals or households; farms; Federal Government.

Number of Respondents: 23,656.

Frequency of Responses: Reporting; on occasion.

Total Burden Hours: 11,828.

Rural Business Cooperative Service

Title: 7 CFR Part 1980-E, Business and Industry Loan Program.

OMB Control Number: 0570-0014.

Summary of Collection: The Business and Industry (B&I) program was legislated in 1972 under Section 310B of the Consolidated Farm and Rural Development Act. The purpose of the program is to improve, employ, develop, or finance businesses, industries, and improve the economic and environmental climate in rural communities, including pollution abatement and control. This is achieved through bolstering the existing private credit structure by making direct loans, thereby providing lasting community benefits. The B&I program is administered by the agency through Rural Development State and sub-State Offices serving the State. All the reporting and recordkeeping burden estimates for making and servicing B&I Guaranteed Loans have been moved to the B&I Guaranteed Loan Program regulations (7 CFR 4279-A and B and 4287-B). 7 CFR 1980-E, in conjunction with 7 CFR 1942-A and other regulations, is currently used only for making B&I Direct Loans. 7 CFR 1951-E is used for servicing B&I Direct and Community Facility loans.

Need and Use of the Information: RD will collect the minimum information needed from applicant to determine program eligibility, or the current financial condition of a business or a credit proposal; is requested. The majority of the information is collected only once and the agency monitors the progress of the business through the analysis of annual borrower financial statements and visits to the borrower.

Description of Respondents: Individuals or households; State, Local or Tribal Government.

Number of Respondents: 200.

Frequency of Responses: Reporting: On occasion.

Total Burden Hours: 4,550.

Rural Business Service

Title: 7 CFR 1951-R, Rural Development Loan Servicing.

OMB Control Number: 0570-0015.

Summary of Collection: The Rural Development (RD) Loan Servicing was legislated in 1985 under Section 1323 of the Food and Security Act of 1985. This action is needed to implement the provision of Section 407 of the Health and Human Services Act of 1986, which amended Section 1323 of the Food Security Act of 1985. Subpart R of part 1951 contains regulations for servicing and liquidating existing loans previously approved and administered by the U.S. Department of Health and Human Services under 45 CFR Part 1076 and transferred from HHS to the Department of Agriculture. This subpart contains regulation for servicing and liquidating loans made by RD, successor to the Farmers Home Administration, under the Intermediary Relending Program to eligible intermediaries and applies to ultimate recipients and other involved parties.

Need and Use of the Information: RD will collect information from the Intermediary, i.e. assets and liabilities, income statement and a summary of the Intermediary's lending and guarantee program. The information is vital to RD for the Agency to make credit and financial analysis decisions based on financial information provided by the Intermediary.

Description of Respondents: Not-for-profit institutions; business or other for-profit.

Number of Respondents: 420.

Frequency of Responses: Reporting: On occasion; quarterly; semi-annually; annually.

Rural Housing Service

Title: Application Certification, Federal Collections Policies for Consumer or Commercial Debts.

OMB Control Number: 0575-0127.

Summary of Collection: OMB Circular A-129, “Policies for Federal Credit Programs and Non-Tax Receivables,” states “further information on the implementation of credit management and debt collection policies may be found in the credit supplement to the Treasury Financial Manual”—According to Managing Government Credit: A Supplement to the Treasury Financial Manual. The agency will inform its loan applicants of the Federal Government's debt collection policies and procedures prior to extending credit. Applicants are required to sign a debt collection certification statement to certify knowledge of the Government's policies in which the statement details the consequences of delinquency.

Need and Use of the Information: RD will collect the information using Form RD 1910-11 to advise applicants of the debt collection methods that will and can be used in recovering delinquent or defaulted loans. The information will be obtained from loan applicants for consumer and commercial debt at the time of loan application. If the application results in a loan, the information will be maintained in the borrower's case file or loan docket and used as documentation should the borrower become delinquent or default.

Description of Respondents: State, Local or Tribal Government; not for profit institutions; Individuals, Households; business or other for-profit; Federal Government.

Number of Respondents: 1,625.

Frequency of Responses: Reporting: On occasion.

Total Burden Hours: 406.

Rural Housing Service

Title: RD 3550-28, “Authorization Agreement for Preauthorization Payments”; RD 1951-65; “Customer Initiated Payments (CIP)” and RD 1951-66, “Fedwire Worksheet”.

OMB Control Number: 0575-New.

Summary of Collection: Rural Development has expanded its use of electronic methods for receiving and processing loan payments and collections. These electronic collection methods include Preauthorized Debits (PAD), Customer Initiated Payments (CIP), and FedWire; and they can provide the borrower the ability to submit their loan payments the day prior to, or the day of their installment due date. To administer these electronic payment methods, Rural Development (RD) will use approved agency forms for collecting financial institution routing information. Form RD 3550-28, Authorization Agreement for Preauthorized Payments, is prepared by the borrower to authorized RD to electronically collect regular loan payments from a borrower's account at a financial institution (FI) as preauthorized debits. Form RD 1951-65, is prepared by the borrower to enroll in CIP. CIP is an electronic collection method that enables borrowers to input payment data to a contract bank via telephone (touch tone and voice) or computer terminal. Form RD 1951-66, FedWire Worksheet, is completed by the borrower to establish an electronic FedWire format with their FI.

Need and Use of the Information: Rural Development (RD) will request that borrowers make payments electronically via PAD, CIP, or FedWire. The information is collected only once unless the FI routing information changes. If the information were not collected, RD would be unable to collect loan payments electronically, resulting in increased costs to borrowers and the government to process hard copy checks, money orders, etc.

Description of Respondents: Not-for-profit institutions; Business or other for-profit; State, Local or Tribal Government.

Number of Respondents: 600.

Frequency of Responses: Reporting: On occasion.

Total Burden Hours: 300.

Animal Plant and Health Inspection Service

Title: Brucellosis Program Cooperative Agreements—Title 9, CFR Parts 50, 51, 53, 54, 71, 76, and 78.

OMB Control Number: 0527-0047.

Summary of Collection: Brucellosis is a contagious animal disease that causes loss of young through spontaneous abortion or birth of weak offspring, reduced milk production, and infertility. It is mainly a disease of cattle, bison and swine. There is no economically feasible treatment for brucellosis in livestock. Veterinary Services, a division with USDA's Animal and Plant Health Inspection Service (APHIS), is responsible for administering regulations intended to prevent the dissemination of animal diseases, such as brucellosis, within the United States. These regulations are found in Part 78 of Title 9, Code of Federal Regulations. The continued presence of brucellosis in a herd seriously threatens the health of other animals.

Need and Use of the Information: APHIS will use the information collected from the various forms to continue to search for other infected herds, maintain identification of livestock, monitor deficiencies in identification of animals for movement, and monitor program deficiencies in suspicious and infected herds. This information will be used to determine brucellosis area status and aids herd owners by speeding up the detection and elimination of serious disease conditions in their herds. Without the data, APHIS' Brucellosis Eradication Program would be severely crippled.

Description of Respondents: Farms; State, Local or Tribal Government.

Number of Respondents: 7,382.

Frequency of Responses: Recordkeeping; reporting: On occasion.

Total Burden Hours: 4,036.

Animal Plant and Health Inspection Service

Title: 7 CFR 319.76 Exotic Bee Diseases and Parasites, 7 CFR 322 Honeybees and Honeybee Semen.

OMB Control Number: 0579-0072.

Summary of Collection: The Honeybee Act of 1922 (Title 7, Chapter 11) was created to prevent the introduction and spread of diseases and parasites harmful to honeybees, and the introduction of genetically undesirable plasm of honeybees. The introduction and establishment of new honeybee diseases, parasites, and undesirable honeybee strains in the United States could cause multimillion-dollar losses to American agriculture. Diseases and parasites can weaken or kill honeybees, thereby causing substantial reductions in the production of honey and other honeybee products, as well as reduction in pollination activity. Section 281c of the Honeybee Act provides that honeybees and honeybee semen can only be imported into the United States under rules and regulations prescribed by the Secretary of Agriculture and the Animal and Plant Health Inspection Service (APHIS). Anyone who seeks to import honeybees, honeybee semen, or articles that could harbor diseases or parasites of honeybees must apply to APHIS for an import permit. APHIS will collect various pieces of information concerning the nature and point of origin of the items to be imported using a number of forms and documents.

Need and Use of the Information: APHIS collects information from importers such as name, address, telephone number, the quantity and kinds of articles intended for import, the amount of semen to be imported; the species or subspecies of honeybee from which the semen was collected; the country or locality or origin; the intended port of entry in the United States; the means of transportation; and the expected date of arrival. The information is needed to determine if the honeybee semen or restricted articles are eligible for importation into the United States, and under what conditions (i.e., necessary treatment, appropriate shipping containers, proper port of entry, etc.

Description of Respondents: Business or other for profit; individuals or households; farms; State, Local or Tribal Government; Federal Government.

Number of Respondents: 13.

Frequency of responses: Reporting: On occasion.

Total Burden Hours: 9.

Animal Plant and Health Inspection Service

Title: 7 CFR 340-Intro of Organisms and Products Altered or Produced Through Genetic Engineering Which are Plant Pests or Which There is Reason to Believe are Plant Pests.

OMB Control Number: 0579-0085.

Summary of Collection: The Animal and Plant Health Inspection Service (APHIS) is charged with preventing the introduction into, and dissemination and establishment of plant pests in the United States. The statutory requirements for the information collection activity are found in the Federal Plant Pest Act (FPPA) and the Plant Quarantine Act (PQA). The regulations in 7 CFR part 340 implement the provisions of the FPPA and PQA by providing the information necessary to establish conditions for proposed introductions of certain genetically engineered organisms and products which present a risk of plant pest introduction.

Need and Use of the Information: APHIS will collect the information through a notification procedure or a permit requirement to ensure that certain genetically engineered organisms, when imported, moved interstate, or released into the environment, will not present risk of plant pest introduction. The information collected through the petition process is used to determine whether a genetically engineered organism will pose a risk to agriculture or the environment, if grown in the absence of regulation by APHIS. The information is also provided to State departments of agriculture for review, and made available to the public and private sectors on the Internet to ensure that all sectors are kept informed concerning any potential risks posed through the use of genetic engineering technology.

Description of Respondents: Business or other for profit; not-for-profit institutions; State, Local or Tribal Government.

Number of Respondents: 105.

Frequency of Responses: Reporting: On occasion.

Total Burden Hours: 2,984.

Animal & Plant Health Inspection Service

Description of Respondents: State, Local or Tribal Government; Federal Government;

Number of Respondents: 120.

Frequency of Responses: Recordkeeping; reporting; on occasion.

Total Burden Hours: 240.

Animal Plant and Health Inspection Service

Title: 7 CFR Parts 319—Importation of Fruits and Vegetables.

OMB Control Number: 0579-0136.

Summary of Collection: The Department of Agriculture is responsible for preventing plant diseases or insect pests from entering the United States. The Plant Protect Quarantine Act and the Federal Pest Act authorizes the Department and the Animal and Plant Health Inspection Service (APHIS) to carry out this mission. Implementing the laws is necessary to prevent injurious insect pest and plant diseases from entering the United States, a situation that could produce serious consequences for U.S. agriculture. Providing for the safe importation of these fruits and vegetables will necessitate the use of several information collection activities and forms, including an application for permit, phytosanitary certificate, certain marking requirements, trapping and survey procedures.

Need and Use of the Information: APHIS will collect information from permit applications to determine if the fruits meets the requirements for importation and also this enables APHIS to evaluate potential risks associated with the proposed movement of these fruits and vegetables into the United States. The information is used to determine whether a permit can be issued, and also to develop risk-mitigating conditions for the proposed movement.

Description of Respondents: Business or other for profit; individuals or households; not-for-profit institutions; farms; State, Local or Tribal Government.

Number of Respondents: 822.

Frequency of Responses: Reporting: On occasion.

Total Burden Hours: 1,343.

Agricultural Marketing Service

Title: National Research, Promotion, and Consumer Information Programs—Honey Revision—Final Rule.

OMB Control Number: 0581-0093.

Summary of Collection: The Department of Agriculture has the responsibility of implementing and overseeing national commodity research and promotion programs for beef, cotton, dairy, eggs, honey, kiwifruit, mushrooms, peanuts, popcorn, pork, potatoes, soybeans, and watermelons. These programs are established under freestanding legislation, which means that each program is authorized under an act of Congress.

In the Federal Agriculture Improvement and Reform Act of 1996. (Pub. L. 104-127, signed April 4, 1996), Congress amended the Honey Research, Promotion, and Consumer Information Act (7 U.S.C. 4601-4613), hereinafter referred to as the Act. This Act requires honey producers to maintain, retain, and make available to the National Honey Board and the Secretary of Agriculture such books and records as are necessary for the administration and enforcement of the Act. The Act also requires producers to file reports with the Board or the Secretary to facilitate the administration and enforcement of the Act. Before these changes, only handlers, importers, and producer-packers were subject to recordkeeping and reporting requirements.

Need and Use of the Information: The Secretary of the Board uses form, AD-755, to conduct applicant background clearances and determine qualifications and suitability for appointment. The Transaction Report form authorizes the collection of assessments, provides information on importers, honey purchased from other producers and countries, and domestic honey. The timing and frequency of information collected is intended to meet the needs of the industry while staying in compliance with the Act and Order. If the information were not collected, the Board would be incapable of carrying out the provisions of the Act and Order.

Description of Respondents: Business or other for-profit; farm; Federal Government.

Number of Respondents: 320,139.

Frequency of Responses: Recordkeeping; reporting: Weekly, monthly, semi-Annually, annually.

Total Burden Hours: 343,487.

Agricultural Marketing Service

Title: Lamb Promotion, Research and Information Program.

OMB Control Number: 0581-0198.

Summary of Collection: The authority for Lamb Promotion, Research, and Information Order is established under the Commodity Promotion, Research, and Information Act of 1996. These programs carry out projects relating to research, consumer information, advertising, producer information, market development, and product research with the goal of maintaining and expanding their existing markets and uses and strengthening their position in the marketplace.

Need and Use of the Information: Various forms will be used to collect information for reporting, background, certification, remittance and nomination. The information requested on the forms is the minimum information necessary to effectively carry out the requirements of the program. The information is not available from other sources because it relates specifically to individual lamb producers, feeders, seedstock producers exporters and first handlers.

Description of Respondents: Farms: individuals or households; business or other for-profit.

Number of Respondents: 70,804.

Frequency of Response: Recordkeeping; reporting: Monthly.

Total Burden House: 66,406.

Food and Nutrition Service

Title: 14 State Summer Food Service Program Pilot Project.

OMB Control Number: 0584-NEW.

Summary of Collection: Children in low-income communities are eligible to receive free or reduced-price meals during the school year through the National School Lunch Program and the School Breakfast Program. The Summer Food Service Program (SFSP) was created to ensure that children in low-income areas could continue to receive nutritious meals during long school vacations, when they do not have access to school lunch or breakfast. Subsection 18 (f) of the Richard B. Russell National School Lunch Act (NSLA) (42 U.S.C. 1769 (f)) added by section 1 (a)(4) of the Consolidated Appropriations Act, 2001 (Pub. L. 106-554, December 21, 2000), authorized the Secretary of Agriculture, through the Administrator of the Food and Nutrition Service (FNS), to conduct a pilot in each eligible State to increase the number of children participating in the Summer Food Service Program in that State. Definition of “eligible State” that is a State which has low (SFSP) participation, was provided in the authorizing legislation. Fourteen States met the eligibility criteria and are participating in the pilot.

Need and Use of the Information: FNS will collect information to describe (a) any effect on participation by children and service institutions in the SFSP in the pilot States; (b) any effect of the pilot on the quality of meals and supplements served in the pilot States; and (c) any effect of the pilot on program integrity. The information collected will provide Congress and FNS with much needed information on the impact of implementing this pilot on program participation.

Description of Respondents: Business or other for profit; State, Local or Tribal Government.

Number of Respondents: 630.

Frequency of Responses: Reporting: On occasion.

Total Burden Hours: 274.

Animal Plant and Health Inspection Service

Title: Self-Certification Medical Statement (SCMS).

OMB Control Number: 0579-NEW.

Summary of Collection: The Secretary of Agriculture is responsible for ensuring consumers that food and farm products are moved from producer to consumer in the most efficient, dependable, economical, and equitable system possible. 5 CFR Part 339 authorizes an agency to obtain medical information about the applicant's health status to assist management in making employment decisions concerning positions that have specific medical standards or physical requirements. The Animal Plant and Health Inspection Service (APHIS) of the U.S. Department of Agriculture hires individuals each year in commodity grading and inspection positions. These positions involve arduous duties and work under conditions, around moving machinery, slippery surfaces, and high noise level noise. APHIS will collect information using the MRP-5 form (Self-Certification Medical Statement).

Need and Use of the Information: The data is needed to obtain information from the applicant about his/her health and fitness. Denial of the information would greatly hamper APHIS recruiting capability and adversely affect management's ability to facilitate hiring, placement, and utilization of qualified individuals into positions that have specific medical standards and physical requirements.

Description of Respondents: Individuals or households; farms; State, Local or Tribal Government; Federal Government.

Number of Respondents: 300.

Frequency of Responses: Reporting: On occasion.

Total Burden Hours: 50.

Rural Housing Service

Title: 7 CFR 1901-K, “Certificates of Beneficial Ownership and Insured Notes”.

OMB Control Number: 0575-0064.

Summary of Collection: The Rural Housing Service (RHS), Farm Service Agency (FSA), and the Rural Business Service (RBS) and the Rural Utilities Service (RUS) currently shared this regulation. FSA's Farm Loan Program (FLP) provides supervised credit in the form of loans to family farmers and ranchers to purchase land and finance agricultural production. RHS provides supervised credit in the form of Multi-Family Housing (MFH) loans and Community Facility (CF) loans. The MFH loan program provides eligible persons with rental or cooperative housing pursuant to the Housing Act of 1949. RBS provides supervised credit in the form of direct loans to businesses in rural areas. In the past, these agencies financed the lending activity of their respective insurance funds through the sale of insured notes, insurance contracts, and Certificates of Beneficial Ownership (CBO) to the Federal Financing Bank and the public.

Need and Use of the Information: The owners, holders or assignees of notes, contracts and CBO's will submitted the information collected to the agency offices. The agency will use the information to redeem or replace or pay interest on these documents and monitor CBO sales and transfer consistent with sound financial management practices. A private holder of RD insured note or CBO is required to document any of the following (1) notice and acknowledgement of sale of insured or guaranteed loans; (2) assignment of CBO's; (3) loss, theft, destruction, mutilation, or defacement of insured CBO's or (4) death of a note holder or certificate holder. Failure by RD to monitor Certificates of Beneficial Ownership (CBO) sales and transfers could possibly lead to non-compliance with statutory intent.

Description of Respondents: Individuals or households.

Number of Respondents: 4.

Frequency of Responses: Reporting: On occasion.

Total Burden Hours: 2.5.

Sondra A. Blakely,
Departmental Information Clearance Officer.

[FR Doc. 02-11157 Filed 5-3-02; 8:45 am]

BILLING CODE 3410-01-M